FEDERAL RESERVE SYSTEM

Formations of, Acquisitions by, and Mergers of Bank Holding Companies; Correction

This notice corrects a notice (FR Doc. 00-33398) published on page 110 of the issue for Tuesday, January 2, 2001.

Under the Federal Reserve Bank of Cleveland heading, the entry for Fifth Third Bancorp, Grand Rapids, Michigan, is revised to read as follows:

A. Federal Reserve Bank of Cleveland (Paul Kaboth, Banking Supervision) 1455 East Sixth Street, Cleveland, Ohio 44101-2566:

1. Fifth Third Bancorp, Cincinnati, Ohio; to form a subsidiary bank holding company, Fifth Third Financial, Cincinnati, Ohio (FTF); to acquire, indirectly through FTF, 100 percent of the voting shares of Old Kent Financial Corporation, Grand Rapids, Michigan, and thereby indirectly acquire Old Kent Bank, Grand Rapids, Michigan, and Old Kent Bank, N.A., Jonesville, Michigan; and to hold and exercise an option to purchase up to 19.9 percent of the outstanding shares of Old Kent Financial Corporation’s common stock upon the occurrence of certain events (this option would expire on consummation of the acquisition).

In connection with this matter, Fifth Third Bancorp has also given notice of its intent to acquire, indirectly through FTF, Old Kent Securities Corporation, Grand Rapids, Michigan, and thereby engage in permissible financial and investment advisory activities pursuant to §§ 225.28(b)(6) and (7) of Regulation Y; Old Kent Financial Life Insurance Corporation, Grand Rapids, Michigan, and thereby engage in permissible credit related reinsurance activities pursuant to § 225.28(b)(11) of Regulation Y; and Gladshire Limited Dividend Housing Association LP; Pleasant Prospect Limited Dividend Housing Association LP; Mount Mercy Limited Partnership; Grand Rapids Hope II Limited Partnership; Grand Rapids Hope Limited Partnership; Michigan Capital Fund For Housing Limited Partnership I; Trinity Village II Limited Dividend Housing Ass’n LP; Pleasant Prospect II Limited Dividend Housing Ass’n LP; Michigan Capital Fund for Housing Limited Partnership II; New Hope Homes Limited Dividend Housing Ass’n LP; Hayward-Wells Limited Dividend Housing Ass’n LP; Independence Village of Brighton Limited Dividend Housing Association LP; CFSB - Eastbrook Apartments Investor, LLC; and Eastbrook Apartments Limited Dividend Housing Ass’n LP, and thereby engage in permissible community development activities pursuant to § 225.28(b)(12) of Regulation Y.

Comments on this application must be received by January 26, 2001.

Board of Governors of the Federal Reserve System, January 17, 2001.
Robert deV. Frierson,
Associate Secretary of the Board.

[FR Doc. 01-1910 Filed 01-22-01; 8:45 am]

BILLING CODE 6210-01-S